NUCLEAR REGULATORY COMMISSION

[Docket No. 50-247]

Consolidated Edison Company of New York, Inc.; Indian Point Nuclear Generating Unit No. 2; Environmental Assessment and Finding of No Significant Impact

The U.S. Nuclear Regulatory Commission (NRC) is considering issuance of an amendment to Facility Operating License No. DPR-26, issued to Consolidated Edison Company of New York, Inc., (the licensee), for operation of the Indian Point Nuclear Generating Unit No. 2, located in Westchester County, New York.

Environmental Assessment

Identification of the Proposed Action

The proposed action would revise the facility Technical Specifications (TSs) to correct various editorial errors and make other administrative changes.

The proposed action is in accordance with the licensee's application for amendment dated February 14, 2000, as supplemented by letter dated May 3, 2001.

The Need for the Proposed Action

The proposed action corrects various editorial errors and makes other administrative changes in the TSs. Specifically, the amendment makes administrative changes that revise: (a) TS Tables 3.6-1 and 4.4-1 to correct listing and editorial errors, (b) TS 3.8.B.10 to reflect the wording in 10 CFR 50.54(m)(2)(iv), (c) Figures 3.10-2 through 3.10-6 to remove these figures, (d) Table 4.1-1 to reflect change in level indication components, (e) TS 4.19.B and 6.14.1.1 to correct editorial errors, (f) TS 6.12.1 to reflect an organizational title change, and (g) TS 6.13.2 to correct a typographical error. In its May 3 letter, the licensee requested that the proposed changes to TS 6.12.1 regarding references to the current sections of 10 CFR Part 20 be withdrawn.

Environmental Impacts of the Proposed Action

The NRC has completed its evaluation of the proposed action and concludes that the administrative and editorial changes correct errors that currently exist in the TSs. The proposed action does not modify the facility or affect the manner in which the facility is operated.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the Indian Point Nuclear Generating Unit No. 2.

Agencies and Persons Consulted

In accordance with its stated policy, on June 26, 2001, the staff consulted with the New York State official, Mr. John P. Spath of the Energy Research and Development Authority, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated February 14, 2000, as supplemented by letter dated May 3, 2001. Documents may be examined, and/or copied for a fee, at the NRC's Public Document Room, located at One White Flint North, 11555 Rockville Pike (first floor), Rockville, Maryland. Publicly available records will be accessible electronically from the Agencywide Documents Access and Management Systems (ADAMS) Public Electronic Reading Room on the Internet at the NRC web site, http://www.nrc.gov/NRC/ADAMS/index.html. If you do not have access to ADAMS or if there are problems in accessing the documents located in ADAMS, contact the NRC Public Document Room (PDR) Reference staff at 1-800-397-4209, 301-415-4737 or by email to pdr@nrc.gov.

Dated at Rockville, Maryland, this 27th day of June 2001.
For the Nuclear Regulatory Commission.
Richard P. Correia,
Acting Chief, Section 1, Project Directorate I, Division of Licensing Project Management, Office of Nuclear Reactor Regulation.

[FR Doc. 01-16654 Filed 7-2-01; 8:45 am]

BILLING CODE 7590-01-P